DEPARTMENT OF HEALTH AND HUMAN SERVICES

Centers for Medicare and Medicaid Services

[CMS-10000, CMS-10097, CMS-10086, CMS-10093]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicare Consumer Assessment of Health Plan Survey-Fee for Service (CAHPS-FFS); Form No.: CMS-10000 (OMB# 0938-0796); Use: Under the Balanced Budget Act of 1997, CMS is required to provide general and plan comparative information to beneficiaries that will help them make more informed plan choices. A CAHPS fee-for-service survey is needed to provide information comparable to those data collected from the CAHPS managed care survey; Frequency: Annually; Affected Public: Individuals or Households; Number of Respondents: 142,920; Total Annual Responses: 142,920; Total Annual Hours: 47,640.

2. Type of Information Collection Request: New Collection; Title of Information Collection: Medicare Contractor Provider Satisfaction Survey; Form No.: CMS-10097 (OMB# 0938-NEW); Use: CMS needs standard data about Medicare provider's satisfaction with their Medicare contractors, who are charged with all Medicare claims processing and related activities on behalf of the Agency. Respondents will be staff representatives of hospitals, skilled nursing facilities, rural health clinics, home health agencies, end-stage renal disease clinics, physicians, non-physicians, durable medical equipment suppliers, laboratories and ambulance providers. The Survey will be used as a mechanism for evaluating and improving Medicare providers' satisfaction with their Medicare contractors. The results will provide CMS with a comprehensive review of contractor-provider business relations from the perspective of the ‘customer’ or Provider. The information will help the Agency appropriately address provider concerns about Medicare Contractors' performance, aid in business/ contracting decisions, evaluate contractor performance and assist or guide contractors in identifying/ implementing ‘best practices’ or quality improvement initiatives.; Frequency: On Occasion; Affected Public: Business or other for-profit and Not-for-profit institutions; Number of Respondents: 6,052; Total Annual Responses: 6,052; Total Annual Hours: 4,204.

3. Type of Information Request: Extension of a currently approved collection; Type of Information Collection: CMS/AoA Aging and Disability Resource Center Grant Program; CMS Form Number: CMS-10093 (OMB# 0938-0903); Use: Information sought by CMSO/DEHPG is needed to award competitive grants to States to develop Aging and Disability Resource Centers; Frequency: On occasion; Affected Public: State, local, or tribal government, Not-for-profit institutions, Business or other for-profit; Number of Respondents: 50; Total Annual Responses: 50; Total Annual Burden Hours: 160.

4. Type of Information Request: Extension of a currently approved collection; Type of Information Collection: Medicaid Program: Real Choice Systems Change Grants for Community Living; CMS Form Number: CMS-10086 (OMB# 0938-0901); Use: Executive Order 13217, “Community-Based Alternatives for Individuals with Disabilities” called upon the federal government to assist states and localities to swiftly implement the decision of the United States Supreme Court in Olmstead v. L.C., stating: “The United States is committed to community-based alternatives for individuals with disabilities and recognizes that such services advance the best interests of the United States.” State agencies and community groups will be applying for these grants; Frequency: On occasion; Affected Public: State, local, or tribal government; not-for-profit institutions; Number of Respondents: 150 Total Annual Responses: 150; Total Annual Burden Hours: 1500.

To obtain copies of the supporting statement and any related forms for the proposed paperwork collections referenced above, access CMS's Web site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address:

CMS, Office of Strategic Operations and Regulatory Affairs, Division of Regulations Development and Issuances, Attention: Melissa Musotto, Room C5-14-03, 7500 Security Boulevard, Baltimore, Maryland 21244-1850.

Dated: September 26, 2003.
Julie Brown,
CMS Reports Clearance Officer, Office of Strategic Operations and Strategic Affairs, Division of Regulations Development and Issuances.

[FR Doc. 03-25062 Filed 10-2-03; 8:45 am]

BILLING CODE 4120-03-P